DEPARTMENT OF AGRICULTURE

Natural Resources Conservation Service

[Docket ID: NRCS-2022-0010]

Information Collection Request for Volunteer Program—Earth Team

AGENCY: Natural Resources Conservation Service, USDA.

ACTION: Notice and request for comments.

SUMMARY: In accordance with the Paperwork Reduction Act, the Natural Resources Conservation Service (NRCS) is requesting comments from all interested individuals and organizations on an extension of a currently approved information collection associated with Volunteer Program—Earth Team. The Volunteer Interest and Placement Summary and the Timesheet forms are used by the respondents. The information NRCS collects on the forms is used to match the skills of individuals, who are 14 years of age or older and interested in volunteering for opportunities that will further NRCS's mission.

DATES: We will consider comments that we receive by November 28, 2022.

ADDRESSES: We invite you to submit comments on this notice. You may submit comments, identified by Docket ID: NRCS-2022-0010, in the Federal eRulemaking Portal: Go to http://www.regulations.gov. Follow the online instructions for submitting comments.

You may also send comments to the Desk Officer for Agriculture, Office of Information and Regulatory Affairs, Office of Management and Budget, Washington, DC 20503.

FOR FURTHER INFORMATION CONTACT: For specific questions related to the collection activities or to request a copy of the information collection, contact Toni Flax, Legislative Affairs Specialist, 610 N Middle, Hill City KS, (785-421-8373), or Toni.Flax@usda.gov.

SUPPLEMENTARY INFORMATION: Title: Volunteer Program—Earth Team.

OMB Number: 0578-0024.

Expiration Date of Approval: November 30, 2022.

Type of Request: Extension.

Abstract: NRCS is collecting information from individuals who are interested in volunteering to work with NRCS. The information will be used by NRCS to assign the volunteer to an appropriate position, and to track their volunteer time. Collection of this information is necessary to match volunteers with NRCS assignments as authorized by section 1526 of the Food and Agriculture Act of 1981 (Pub. L. 97-98). NRCS is authorized to recruit, train, and accept (following Civil Service classification laws, rules, or regulations) individuals to serve without compensation. Subject to certain conditions, most volunteers may assist in agency programs or projects, and may perform activities that the employees may perform. The two forms Volunteer Interest and Placement Summary Forms, NRCS-PER-002, and Timesheet Form, NRCS-PER-004, are used to collect information from the individuals.

The timesheet is an optional form and provides the volunteer or volunteer's supervisor a simplified method for tracking the volunteer's time. The form is placed in a volunteer “case file” and will be destroyed 3 years after the volunteer has completed service. In the event the volunteer is injured while engaged in volunteer activities and claims workman's compensation, the “case file” will be transferred to an Official Personnel Folder.

The information collection burden estimates have been updated. There were no other revisions required.

Estimate of Average Time to Respond: Public reporting burden for this collection of information is estimated to average 4 minutes per response.

Type of Respondents: Retirees, students, teachers, or senior citizens.

Estimated Annual Number of Respondents: 7,120.

Estimated Number of Responses per Respondent: 1.5.

Estimated Total Annual Responses: 14,440.

Estimated Total Annual Burden on Respondents: 1,010.80 hours.

We are requesting comments on all aspects of this information collection to help us to:

(1) Evaluate whether the collection of information is necessary for the proper performance of the functions of NRCS, including whether the information will have practical utility;

(2) Evaluate the accuracy of the estimate of the burden of the collection of information, including the validity of the methodology and assumptions used;

(3) Enhance the quality, utility, and clarity of the information to be collected; and

(4) Minimize the burden of the collection of information on those who are to respond, including the use of appropriate automated, electronic, mechanical, or other technological collection techniques or other forms of information technology.

All responses received in response to this notice, including names and addresses when provided, will be a matter of public records. Comments will be summarized and included in the submission for Office of Management and Budget approval.

Terry Cosby,
Chief, Natural Resources Conservation Service.

[FR Doc. 2022-20933 Filed 9-27-22; 8:45 am]

BILLING CODE 3410-16-P